DEPARTMENT OF DEFENSE

[Docket ID: DoD-2020-OS-0074]

Department of Defense, Transition Assistance Program (TAP) Information for Families, Caregivers, Veterans and Community-Based Organizations

AGENCY: Under Secretary of Defense for Personnel and Readiness, Military-Civilian Transition Office, Department of Defense (DoD).

ACTION: TAP notice.

SUMMARY: The DoD TAP is the overarching program that provides transition assistance, information, training, and services for all eligible members of the Armed Forces, their spouses, dependents, and caregivers. DoD TAP eligibility, priority of services, and TAP protocol and services are outlined in statue and internal policy. This notice promotes awareness of those DoD TAP benefits, amenities, and resources offered to military dependents, caregivers of military members, Veterans, and military/veteran service organizations.

FOR FURTHER INFORMATION CONTACT: Tamre Newton, (703) 614-8658.

SUPPLEMENTARY INFORMATION: On September 23, 2019 (84 FR 48724), DoD removed Part 88 from Title 32 of the Code of Federal Regulation concerning the Department of Defense (DoD) Transition Assistance Program. Part 88 summarized the benefits in statute and internal policy. The following information is provided to promote awareness of those benefits for military dependents, caregivers of military members, Veterans, and military/veteran service organizations.

DoD internal policy is published and publicly available on the Department's website in DoD Instruction (DoDI) 1332.35, “Transition Assistance Program (TAP) for Military Personnel” at https://www.esd.whs.mil/Directives/issuances/dodi/.

Virtual DoD TAP training curriculum for Veterans and family members is publicly available at https://www.tapevents.org/courses.

The DoD Transition Day (the DoD Managing Your Transition, Military Occupational Codes Crosswalk, Financial Planning for Transition) and DoD Managing Your Education participant guides are publicly available on the Defense Visual Information Distribution Service (DVIDS) under recent publications at https://www.dvidshub.net/unit/DODTAP.

Outlined in DoDI 1332.35 and Chapter 58 of Title 10, U.S.C is the process for how transition assistance is provided to caregivers, spouses and dependents of eligible Service members. This includes DoD collaboration between the Military-Civilian Transition Office and the Military Community and Family Policy (MC&FP) Office concerning policy about job placement counseling for the spouses of eligible transitioning Service members, and career change counseling for dependents of eligible Service members in accordance with 10 U.S.C. 1142. This also entails updates for Service member dependents on Military OneSource incorporation into pre-separation/transition counseling and transition assistance curriculum.

DoD, Defense Personnel and Family Support Center (DPFSC) will inform eligible Service members' spouses and caregivers of TAP services through online media and other cooperative outreach efforts pursuant to the criteria in 38 U.S.C. 1720G, and procedural guidance in DoDI 1332.35, in accordance with 10 U.S.C. These authorities pertain to the required program of comprehensive assistance for family caregivers and the responsibilities of the military services regarding caregiver participation in DoD pre-separation counseling sessions.

Military and Veteran Service Organizations

Military Departments will encourage installation commanders to permit access to veterans service organizations and military service organizations to transition assistance-related events and activities in the United States and abroad in accordance with the TAP MOU, DoD 5500.07-R, DoDI 1344.07 and the December 23, 2014 Secretary of Defense Memorandum, “Installation Access and Support Services to VA-Recognized Veteran Service Organizations/Military Service Organizations,” at no cost to the U.S. Government. Access must be for the purpose of assisting Service members with the pre- and post-military disability claim process and transition assistance resources and services.

Family members and caregivers of Service members can find information on non-local community resources through the National Resource Director at www.nrd.gov.

TAP Eligibility for Spouses and Dependents

(1) Spouses of eligible transitioning Service members are eligible to attend the Department of Labor (DOL) One-Day and the DOL Employment Track in accordance with 10 U.S.C. 1144.

(2) Spouses of eligible transitioning Service members are eligible for the following services and information in accordance with 10 U.S.C. 1142.

(a) DOL Job placement counseling.

(b) DoD and VA-administered survivor benefits information.

(c) DoD financial education and counseling, including information on budgeting, saving, credit, loans, and taxes.

(d) Transition plan assistance to enable achievement of educational, training, employment, and financial objectives.

(e) VA benefits orientation, such as education, employment, home loan services, housing assistance benefit information, and responsible borrowing practices counseling.

(3) Dependents of eligible Service members are entitled to the following services and information in accordance with 10 U.S.C. 1142.

(a) Career change counseling and its effects on individuals and their family.

(b) Information on suicide prevention resources following separation from the Military Services.

(4) Eligible Service members and their dependents are entitled to transitional medical and dental care that will be available for 180 days, beginning on the first day after the date of separation, retirement, or release from active duty in accordance with 10 U.S.C. 1145.

(5) Spouses of eligible Service members are encouraged to participate in transition assistance, as resources and capacity allow. Participating spouses may have their attendance recorded in accordance with the privacy and information collection mandates and requirements of Titles 10 and 14, U.S.C., and DoD 5400.11-R.

(6) Spouses completing pre-separation/transition counseling (using DD Form 2648) on behalf of an eligible recovering Service member in accordance with DoDI 1332.35 will provide their DoD identification number for data collection purposes.

TAP Eligibility for Caregivers

(1) The Military Services will provide, during mandatory pre-separation counseling, a description of the assistance and support services provided for family caregivers of eligible veterans pursuant to 38 U.S.C. 1720G.

(2) Service members undergoing pre-separation/transition counseling, who may require caregiver services after separation, may identify an individual in writing to provide such services after separation.

(3) Service members who identified an individual to provide caregiver services after separation may permit their caregiver to participate in the member's pre-separation/transition counseling session to inform the caregiver of:

(a) The assistance and support services available to caregivers of members after separation.

(b) The manner in which the member's transition to civilian life after separation may impact the caregiver.

Transition Assistance Priority of Service

The descending order of priority for participation in transition assistance classroom attendance is based on the targeted population dates of separation or release from active duty, or their status of returning from overseas, or assignment to remote or isolated and geographically dispersed locations. DoD TAP training is publicly available virtually, as referenced above. Eligible Service members will be given preference for classroom DoD TAP, and spouse eligibility for DoD TAP classroom attendance will be based on resource availability and capacity in accordance with DoDI 1332.35.

Dated: March 29, 2021.
Aaron T. Siegel,
Alternate OSD Federal Register Liaison Officer, Department of Defense.

[FR Doc. 2021-06727 Filed 3-31-21; 8:45 am]

BILLING CODE 5001-06-P